Title 3—

The President

Proclamation 10177 of April 11, 2021

National Fair Housing Month, 2021

By the President of the United States of America

A Proclamation

Exactly 1 week after the assassination of Dr. Martin Luther King, Jr., struck at the soul of our Nation, President Lyndon B. Johnson signed a landmark piece of legislation—an enduring testament to the ideals of Dr. King that enshrined a portion of his legacy in the lives and laws of the American people. Fifty-three years later, the Fair Housing Act still serves as a powerful statement about who we are as a people: the values of equality, equity, and dignity that we strive to uphold, and the places where we still have work to do to fulfill our full promise as a Nation.

The purpose of the Fair Housing Act was to put an end to inequities in our housing system and eliminate racial segregation in American neighborhoods—and guarantee that all people in America have the right to obtain the housing of their choice, free from discrimination. The law prohibits discrimination in the sale, rental, and financing of housing, and requires Federal, State, and local governments to proactively dismantle the discriminatory structures that held back people of color and other underserved populations from equitable access to the neighborhoods of their choice.

By helping to create a fairer housing system, the law seeks to do more than just open up American neighborhoods to all Americans. Access to quality housing is about more than having a roof over your head—it is the foundation for achieving better educational, employment, and health outcomes, as well as one of the most important ways that families build wealth that they can pass along across the generations. The Fair Housing Act was created at a time when Federal and State policies held that dream at arm's length from far too many Black, Brown, Native, and Asian American families through the insidious practices of redlining and lending discrimination.

Over the course of 53 years, the law has made a world of difference in the lives of countless families and communities. We have also improved upon it through the years; as a Senator, I was proud to co-sponsor the 1988 Fair Housing Act amendments that extended the law's protections to Americans with disabilities and families with children, and just 2 months ago my Administration issued a rule change to ensure that the law finally guards against discrimination targeting LGBTQ+ Americans. But the truth of the matter is that we have not fully achieved the goals of the Fair Housing Act—we still have so much work to do.

Many of our neighborhoods remain as segregated today as they were in the middle of the 20th century, and the racial wealth gap is wider now than it was when the Fair Housing Act was passed. Though our Nation has come a long way in many regards, our promise will not be fulfilled as long as anyone in America is denied a good home or a fair shot because of who they are. It is our shared duty to work together to ensure that every person has equitable access to all of the opportunities our communities provide—and that no one faces barriers to getting a good education, having quality health care, eating healthy food, or finding stable employment that allows their family to thrive solely because of where they live. This is a moral responsibility that cannot wait, particularly at a time when the COVID-19 pandemic has further highlighted and exacerbated the lack of safe, affordable places to live for far too many people in America.

To affirm equal opportunity as the bedrock of our democracy—and to enlist the entire Federal Government to address entrenched disparities in our laws, public policies, and institutions—I signed an Executive Order on Advancing Racial Equity and Support for Underserved Communities Through the Federal Government on my first day in office. To ensure that the Federal Government continues to prioritize the right to fair housing and actively enforce our Federal civil rights laws, I also signed a Presidential Memorandum on Redressing Our Nation's and the Federal Government's History of Discriminatory Housing Practices and Policies during my first week as President. My Administration will continue our efforts to close persistent racial gaps in wages, housing, credit, lending opportunities, and access to higher education—gaps that, if closed, would add an estimated $5 trillion in gross domestic product in the American economy over the next 5 years. We are committed to doing all we can to end unlawful housing discrimination and advance equity for all underserved populations, fulfill the full promise of the Fair Housing Act, and put the American dream within reach of all Americans.

NOW, THEREFORE, I, JOSEPH R. BIDEN JR., President of the United States of America, by virtue of the authority vested in me by the Constitution and the laws of the United States, do hereby proclaim April 2021 as National Fair Housing Month. I call upon the people of this Nation to help secure freedom and justice for every American by taking action to fulfill the promise made by the Fair Housing Act to ensure everyone has free and fair housing choice.

IN WITNESS WHEREOF, I have hereunto set my hand this eleventh day of April, in the year of our Lord two thousand twenty-one, and of the Independence of the United States of America the two hundred and forty-fifth.

[FR Doc. 2021-07861

Filed 4-14-21; 8:45 am]

Billing code 3295-F1-P